DEPARTMENT OF TRANSPORTATION

Federal Aviation Administration

14 CFR Part 39

[Docket No. FAA-2014-0780; Directorate Identifier 2014-NM-168-AD]

RIN 2120-AA64

Airworthiness Directives; The Boeing Company Airplanes

AGENCY: Federal Aviation Administration (FAA), DOT.

ACTION: Notice of proposed rulemaking (NPRM); reopening of comment period.

SUMMARY: This document announces the reopening of the comment period for the above-referenced NPRM, which proposed the adoption of a new airworthiness directive (AD) that applies to The Boeing Company Model 747 airplanes equipped with a main deck side cargo door (MDSCD). The NPRM proposed to require revising the airplane flight manual to incorporate limitations for carrying certain payloads. This reopening of the comment period is necessary to ensure that all interested persons have ample opportunity to submit any written relevant data, views, or arguments regarding the proposed requirements of the NPRM.

DATES: We must receive comments on this NPRM (79 FR 71037, December 1, 2014) by March 2, 2015.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: Deliver to Mail address above between 9 a.m. and 5 p.m., Monday through Friday, except Federal holidays.

Examining the AD Docket

You may examine the AD docket on the Internet at http://www.regulations.gov by searching for and locating Docket No. FAA-2014-0780; or in person at the Docket Management Facility between 9 a.m. and 5 p.m., Monday through Friday, except Federal holidays. The AD docket contains this AD action, the regulatory evaluation, any comments received, and other information. The street address for the Docket Office (phone: 800-647-5527) is in the ADDRESSES section. Comments will be available in the AD docket shortly after receipt.

FOR FURTHER INFORMATION CONTACT: Steven C. Fox, Senior Aerospace Engineer, Airframe Branch, ANM-120S, FAA, Seattle Aircraft Certification Office (ACO), 1601 Lind Avenue SW., Renton, WA 98057-3356; phone: 425-917-6425; fax: 425-917-6590; email: steven.fox@faa.gov.

SUPPLEMENTARY INFORMATION: We proposed to amend 14 CFR part 39 by adding a notice of proposed rulemaking (NPRM) that would apply to The Boeing Company Model 747 airplanes equipped with an MDSCD. The NPRM was published in the Federal Register on December 1, 2014 (79 FR 71037). The NPRM proposed to require revising the airplane flight manual to incorporate limitations for carrying certain payloads. The NPRM also invites comments on its overall regulatory, economic, environmental, and energy aspects.

Events Leading to the Reopening of the Comment Period

Since we issued the NPRM (79 FR 71037, December 1, 2014), several commenters have requested that the comment period be extended/reopened to provide additional time to comment on the merits of the proposal.

FAA's Determination

We found it appropriate to reopen the comment period to give all interested persons additional time to examine the proposed requirements of the NPRM (79 FR 71037, December 1, 2014) and submit comments. We have determined that reopening the comment period for 30 days will not compromise the safety of these airplanes.

Extension of Comment Period

The comment period for Docket No. FAA-2014-0780, Directorate Identifier 2014-NM-168-AD, has been revised. The comment period now closes March 2, 2015.

No other part of the regulatory information has been changed; therefore, the NPRM (79 FR 71037, December 1, 2014) is not republished in the Federal Register.

Issued in Renton, Washington, on January 16, 2015.
Jeffrey E. Duven,
Manager, Transport Airplane Directorate, Aircraft Certification Service.

[FR Doc. 2015-01577 Filed 1-28-15; 8:45 am]

BILLING CODE 4910-13-P